ENVIRONMENTAL PROTECTION AGENCY

[ER-FRL-6657-5]

Environmental Impact Statements; Notice of Availability

Responsible Agency: Office of Federal Activities, General Information (202) 564-7167 or http://www.epa.gov/compliance/nepa.

Weekly receipt of Environmental Impact Statements

Filed November 1, 2004. Through November 5, 2004

Pursuant to 40 CFR 1506.9.

EIS No. 040512, Draft EIS, BLM, ID, Fire, Fuels and Related Vegetation Management Direction Plan Amendment, Upper Snake River District (The District), Amending 12 Existing Land Use Plans, Several Counties, ID, Comment Period Ends: February 10, 2005, Contact: Eric Limbach (208) 478-6392.

EIS No. 040513, Final EIS, BLM, CA, King Range National Conservation Area (KRNCA) Resource Management Plan, Implementation, Humboldt and Mendocino Counties, CA, Wait Period Ends: December 13, 2004, Contact: Lynda J. Roush (707) 825-2300.

EIS No. 040514, Final EIS, AFS, AK, Resurrection Creek Stream and Riparian Restoration Project, Proposes to Accelerate the Recovery of Riparian Areas, Fish and Wildlife Habitat, Chugach National Forest, Seward Ranger District, Kenai Peninsula Borough, AK, Wait Period Ends: December 13, 2004, Contact: Debora Cooper (907) 224-3374.

EIS No. 040515, Draft EIS, AFS, ID, Paddy Flat Vegetation Project, Harvesting and Regenerate Timber Stands Precommercially Thin Plantations, Rapid, Kennally and Camp Creeks, Payette National Forest, McCall Ranger District, Valley County, ID, Comment Period Ends: December 27, 2004, Contact: Dan Anderson (208) 634-0435.

EIS No. 040516, Final EIS, FHW, TX, TX-121 Highway Construction, I-30 to Farm-to-Market 1187 (FM 1187), Funding, USCG Section 9 and U.S. Army COE Section 10 and 404 Permits Issuance, Fort Worth, Tarrant County, TX, Wait Period Ends December 13, 2004, Contact: Salvador Deocampo, P.E. (512) 536-5950.

EIS No. 040517, Draft EIS, AFS, MT, McSutten Decision Area, Implementation of Harvest and Associated Activities, Prescribed Burning, and Road Management, Kootenai National Forest, Rexford Ranger District, Lincoln County, MT, Comment Period Ends: December 27, 2004, Contact: Chris Fox (406) 296-7155.

EIS No. 040518, Draft EIS, FHW, NY, NYS Route 17—Elmira to Chemung Project, Proposed Highway Reconstruction, New Highway Construction, Bridge Rehabilitation/Replacement, Funding and U.S. Army COE Section 404 Permit, Town and City of Elmira, Town of Ashland and Chemung, Chemung County, NY, Comment Period Ends: December 31, 2004, Contact: Peter J. White (607) 324-8473.

EIS No. 040519, Final EIS, NSF, Project IceCube Comprehensive Environmental Evaluation, Antarctica, Wait Period Ends: January 12, 2005, Contact: Polly A. Penhale (703) 292-8033.

EIS No. 040520, Draft EIS, DOE, UT, Moab Uranium Mill Trailings Remedition, Proposal To Clean Up Surface Contamination and Implement a Ground Water Strategy, Grand and San Juan Counties, UT, Comment Period Ends: February 18, 2005, Contact: Donald R. Metzler (800) 637-4575.

This document is available on the Internet at: http://gj.em.doe.gov/moab.

EIS No. 040521, Draft EIS, STB, TX, Southwest Gulf Railroad Project, Construction and Operation Exemption, To Transport Limestone from Vulcan Construction Materials (VCM) Quarry to Del Rio Subdivision, Medina County, TX , Comment Period Ends: January 10, 2005, Contact: Rini Ghosh (202) 565-1539.

This document is available on the Internet at: http://www.stb.dot.gov.

EIS No. 040522, Draft Supplement, GSA, MD, U.S. Food and Drug Administration (FDA) Consolidation, Updated and New Information, Constructing a New Eastern Access Road and over Paint Branch, Construct Additional Facilities to Support Expanded Program, Relocating The Day Care Center, Federal Research Center at White Oak, Silver Spring, Montgomery, MD, Comment Period Ends: January 3, 2005, Contact: Denise Decker (301) 595-5156.

EIS No. 040523, Final EIS, COE, AZ, Va Shly'ay Akimel Salt River Ecosystem Restoration Feasibility Study, Increasing and Improving Native Vegetation, in Portions of the Salt River Pima-Maricopa Indian Community (SRPMIC) and the City of Mesa, Maricopa County, AZ, Wait Period Ends: December 13, 2004, Contact: Kayla Eckert, Ext. 253, (602) 640-2003.

EIS No. 040524, Final EIS, AFS, MT, Robert-Wedge Post-Fire Project, Salvage Trees and Rehabilitate Lands, Flathead National Forest, Glacier View Ranger District, Flathead County, MT, Wait Period Ends: December 13, 2004, Contact: Michele Draggoo (406) 387-3827.

EIS No. 040525, Final EIS, NOA, WA, CA, OR, 2005-2006 Pacific Coast Groundfish Fishery, Proposed Acceptable Biological Catch and Optimum Yield Specifications and Management Measures, WA, OR and CA, Wait Period Ends: December 13, 2004, Contact: D. Robert Lohn (206) 526-6150.

This document is available on the Internet at: http://www.pcouncil.org/nepa/nepatrack.html.

Amended Notices

EIS No. 040402, Revised Draft EIS, IBR, CA, NV, CA, NV, Truckee River Operating Agreement (TROA) Modify Operations of Five Federal and Two Non-Federal Reservoirs to Facilitate Distribution of Water, Truckee River Basin, El Dorado, Nevada, Placer and Sierra Counties, CA and Douglas, Lyon, Storey and Washoe Counties, NV, Comment Period Ends: December 30, 2004, Contact: Kenneth Parr (775) 882-3436.

Revision of Federal Register Notice Published on 08/27/04: CEQ Comment Period Ending 10/29/2004 has been Extended to 12/30/2004.

EIS No. 040506, Final EIS, BIA, NY, St. Regis Mohawk Tribe, Mohawk Mountain Casino and Resort, Proposed Transfer of 66 Acres of Land into Federal Trust Status, Fee-to-Trust Acquisition, Sullivan County, NY, Wait Period Ends: December 6, 2004, Contact: Jim Kardatzke (615) 467-1675.

Review of Federal Register Notice Published on 11/05/2004: The above BIA EIS should have appeared in the 11/05/2004 Federal Register. The 30 Day Wait Period is Calculated from 11/05/2004.

Dated: November 8, 2004.
Robert W. Hargrove,
Director, NEPA Compliance Division, Office of Federal Activities.

[FR Doc. 04-25203 Filed 11-10-04; 8:45 am]

BILLING CODE 6560-50-P